DEPARTMENT OF THE INTERIOR

National Park Service

[NPS-WASO-NAGPRA-11919; 2200-1100-665]

Notice of Intent To Repatriate a Cultural Item: Department of the Interior, Bureau of Land Management, Salt Lake City, UT

AGENCY: National Park Service, Interior.

ACTION: Notice.

SUMMARY: The Bureau of Land Management (BLM), Utah State Office, in consultation with the appropriate Indian tribes, has determined that the cultural item meets the definition of both a sacred object and an object of cultural patrimony, and repatriation to the Indian tribe stated below may occur if no additional claimants come forward. Representatives of any Indian tribe that believes itself to be culturally affiliated with the cultural item may contact the BLM Utah State Office at the below address.

DATES: Representatives of any Indian tribe that believes it has a cultural affiliation with the cultural item should contact the BLM at the address below by February 25, 2013.

ADDRESSES: Mr. Juan Palma, State Director, Bureau of Land Management, Utah State Office, P.O. Box 45155, Salt Lake City, UT 84145-0155, telephone (801) 539-4010.

SUPPLEMENTARY INFORMATION: Notice is here given in accordance with the Native American Graves Protection and Repatriation Act (NAGPRA), 25 U.S.C. 3005, of the intent to repatriate a cultural item in the possession of the BLM Utah State Office in Salt Lake City, UT, that meets the definition of both a sacred object and an object of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

The one cultural item is a Dilzini Gaan headdress consisting of painted wood and cloth. It was acquired in 2009 by BLM law enforcement agents during a search warrant of a Blanding, UT, home as a part of the investigation code-named “Cerberus Action.” It is unknown where or when the suspect acquired the headdress.

Tribal cultural authorities of the Jicarilla Apache Nation, New Mexico; Mescalero Apache Tribe of the Mescalero Reservation, New Mexico; San Carlos Apache Tribe of the San Carlos Reservation, Arizona; Tonto Apache Tribe of Arizona; White Mountain Apache Tribe of the Fort Apache Reservation, Arizona; and the Yavapai-Apache Nation of the Camp Verde Indian Reservation, Arizona, consulted with BLM cultural resources staff, and identified the headdress as a sacred object and an object of cultural patrimony eligible for repatriation under NAGPRA. The tribal cultural authorities recognized the materials used in the construction of this item, as well as the item's style and type. Consequently, these tribal consultants were able to determine that the item is culturally affiliated specifically with the White Mountain Apache Tribe of the Fort Apache Reservation, Arizona, and to clearly distinguish it from other items of similar type and style associated with other Apache groups.

Determinations Made by the Bureau of Land Management, Utah State Office

Officials of the BLM, Utah State Office have determined that:

• Pursuant to 25 U.S.C. 3001(3)(C), the one cultural item described above is a specific ceremonial object needed by traditional Native American religious leaders for the practice of traditional Native American religions by their present-day adherents.

• Pursuant to 25 U.S.C. 3001(3)(D), the one cultural item described above has ongoing historical, traditional, or cultural importance central to the Native American group or culture itself, rather than property owned by an individual.

• Pursuant to 25 U.S.C. 3001(2), there is a relationship of shared group identity that can be reasonably traced between the Dilzini Gaan headdress and the White Mountain Apache Tribe of the Fort Apache Reservation, Arizona.

Additional Requestors and Disposition

Representatives of any other Indian tribe that believes itself to be culturally affiliated with the Dilzini Gaan headdress should contact Mr. Juan Palma, State Director, Bureau of Land Management, Utah State Office, P.O. Box 45155, Salt Lake City, UT 84145-0155, telephone (801) 539-4010 before February 25, 2013. Repatriation of the Dilzini Gaan headdress to the White Mountain Apache Tribe of the Fort Apache Reservation, Arizona, may proceed after that date if no additional claimants come forward.

The BLM, Utah State Office is responsible for notifying the Apache Tribe of Oklahoma; Fort Sill Apache Tribe of Oklahoma; Jicarilla Apache Nation, New Mexico; Mescalero Apache Tribe of the Mescalero Reservation, New Mexico; San Carlos Apache Tribe of the San Carlos Reservation, Arizona; Tonto Apache Tribe of Arizona; White Mountain Apache Tribe of the Fort Apache Reservation, Arizona; Yavapai-Apache Nation of the Camp Verde Indian Reservation, Arizona; and the Chiricahua Apache Nation (a non-Federally recognized Indian group) that this notice has been published.

Dated: December 13, 2012.
Sherry Hutt,
Manager, National NAGPRA Program.

[FR Doc. 2013-01324 Filed 1-23-13; 8:45 am]

BILLING CODE 4312-50-P